ENVIRONMENTAL PROTECTION AGENCY

[OPPT-2002-0079; FRL-7306-2]

Lead-Based Paint Activities in Target Housing and Child-Occupied Facilities, State of Mississippi Authorization of Lead-Based Paint Activities Program; Final Approval

AGENCY: Environmental Protection Agency (EPA).

ACTION: Notice.

SUMMARY: On January 21, 2003, the State of Mississippi submitted a self-certification letter stating that Mississippi's Lead-Based Paint Training and Certification Program meets the requirements for approval of a State program under section 404 of the Toxic Substances Control Act (TSCA) and that Mississippi has the legal authority and ability to implement the appropriate elements to run the program. The State program will administer and enforce training and certification requirements, training program accreditation requirements, and work practice standards for lead-based paint activities in target housing and child-occupied facilities under section 402 of TSCA. Recent changes to the State's audit privilege and penalty mitigation statutes, which previously impaired the States's ability to fully administer and enforce the Lead-Based Paint Program, have resulted in the State program now providing adequate enforcement. This notice announces the authorization of the State of Mississippi's Lead-Based Program.

DATES: Lead-based paint activities program authorization was granted to the State of Mississippi effective on January 21, 2003.

FOR FURTHER INFORMATION CONTACT: Keith Bates, Pesticides and Toxic Substances Branch; Air, Pesticides and Toxics Management Division; Environmental Protection Agency; Region IV, Sam Nunn Atlanta Federal Center, 61 Forsyth St., SW., Atlanta, GA 30303; telephone number: (404) 562-8992; e-mail address: bates.keith@epa.gov.

SUPPLEMENTARY INFORMATION:

I. General

A. Does this Action Apply to Me?

This notice is directed to the public in general. This notice may, however, be of interest to firms and individuals engaged in lead-based paint activities in Mississippi. Since other entities may also be interested, the Agency has not attempted to describe all the specific entities that may be affected by the notice. If you have any questions regarding the applicability of this notice to a particular entity, consult the person listed under FOR FURTHER INFORMATION CONTACT.

B. How Can I Get Copies of this Document and Other Related Information?

1. Docket. EPA has established an official public docket for this action under docket identification (ID) number OPPT-2002-0079. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

A. What Action is the Agency Taking?

The State of Mississippi has been operating its Lead-Based Paint Program under interim approval since June 28, 1999, with interim approval expiring on June 28, 2002. On December 17, 2001, the State of Mississippi submitted an application for EPA final approval of its Lead-Based Paint Program. Notice of Mississippi's December 17, 2001, application, a solicitation for public comment regarding the application, and background information supporting the application were published in the Federal Register on July 19, 2002 (67 FR 47541) (FRL-7187-5). No public comments were received regarding any aspect of Mississippi's application.

At the time of the December 2001 application, two deficiencies in the State's audit privilege and penalty mitigation statutes at Mississippi Code Annotated sections 49-2-71 and 49-17-43(g) impaired the State's ability to provide adequate enforcement in criminal proceedings and investigations and in assessment of appropriate penalties, thus preventing the Agency from fully approving the program. During the 2003 legislative session, however, the State amended the audit privilege and penalty mitigation statutes, which corrected the deficiencies identified by EPA. On January 21, 2003, the State of Mississippi supplemented its December 17, 2001, application with a discussion addressing how the amendments to Mississippi's audit privilege and penalty mitigation statutes, Mississippi Code Annotated sections 17-17-29, 49-2-71, 49-17-43, and 49-17-427, resulted in the State Lead-Based Paint Program providing adequate enforcement. The supplement also contained a statement certifying the Lead-Based Paint Program is at least as protective as the Federal program and provides adequate enforcement.

Based upon the State's certification, and EPA's review and assessment of Mississippi's complete application, Mississippi has successfully demonstrated that the State's Lead-Based Paint Program achieves the protectiveness and enforcement criteria, as required for Federal authorization. Therefore, by this notice, EPA is announcing approval of the application and authorization of the State of Mississippi's Lead-Based Program, effective January 21, 2003.

B. What is the Agency's Authority for Taking this Action?

On October 28, 1992, the Housing and Community Development Act of 1992, Public Law 102-550, became law. Title X of that statute was the Residential Lead-Based Paint Hazard Reduction Act of 1992. That Act amended TSCA (15 U.S.C. 2601 et seq.) by adding Title IV (15 U.S.C. 2681-2692), titled Lead Exposure Reduction.

Section 402 of TSCA (15 U.S.C. 2682) authorizes and directs EPA to promulgate final regulations governing lead-based paint activities in target housing, public and commercial buildings, bridges, and other structures. Those regulations are to ensure that individuals engaged in such activities are properly trained, that training programs are accredited, and that individuals engaged in these activities are certified and follow documented work practice standards. Under section 404 of TSCA (15 U.S.C. 2684), a State may seek authorization from EPA to administer and enforce its own lead-based paint activities program.

In the Federal Register of August 29, 1996 (61 FR 45777) (FRL-5389-9), EPA promulgated final TSCA section 402/404 regulations governing lead-based paint activities in target housing and child-occupied facilities (a subset of public buildings). Those regulations are codified at 40 CFR part 745, and allow both States and Indian Tribes to apply for program authorization. Pursuant to section 404(h) of TSCA (15 U.S.C. 2684(h)), EPA is to establish the Federal program in any State or Tribal Nation without its own authorized program in place by August 31, 1998.

States and Tribes that choose to apply for program authorization must submit a complete application to the appropriate Regional EPA Office for review. To receive EPA approval, a State or Tribe must demonstrate that its program is at least as protective of human health and the environment as the Federal program, and provides for adequate enforcement (section 404(b) of TSCA, 15 U.S.C. 2684(b)). EPA's regulations (40 CFR part 745, subpart Q) provide the detailed requirements a State or Tribal program must meet in order to obtain EPA approval.

A State may choose to certify that its lead-based paint activities program meets the requirements for EPA approval, by submitting a letter signed by the Governor or Attorney General stating that the program meets the requirements of section 404(b) of TSCA. Upon submission of such certification letter, the program is deemed authorized (15 U.S.C. 2684(a)). This authorization becomes ineffective, however, if EPA disapproves the application or withdraws the program authorization.

III. Federal Overfiling

Section 404(b) of TSCA, makes it unlawful for any person to violate, or fail or refuse to comply with, any requirement of an approved State or Tribal program. Therefore, EPA reserves the right to exercise its enforcement authority under TSCA against a violation of, or a failure or refusal to comply with, any requirement of an authorized State or Tribal program.

IV. Withdrawal of Authorization

Pursuant to TSCA section 404(c), the Administrator may withdraw a State or Tribal lead-based paint activities program authorization, after notice and opportunity for corrective action, if the program is not being administered or enforced in compliance with standards, regulations, and other requirements established under the authorization. The procedures EPA will follow for the withdrawal of an authorization are found at 40 CFR 745.324(i).

V. Congressional Review Act

The Congressional Review Act, 5 U.S.C. 801 et seq., as added by the Small Business Regulatory Enforcement Fairness Act of 1996, generally provides that before certain actions may take effect, the agency promulgating the action must submit a report, which includes a copy of the action, to each House of the Congress and to the Comptroller General of the United States. EPA will submit a report containing this action and other required information to the U.S. Senate, the U.S. House of Representatives, and the Comptroller General of the United States prior to publication of this document in the Federal Register. This action is not a “major rule” as defined by 5 U.S.C. 804(2).

List of Subjects

Environmental protection, Hazardous substances, Lead, Reporting and recordkeeping requirements.

Dated: May 2, 2003.
J. I. Palmer, Jr.,
Regional Administrator, Region IV.

[FR Doc. 03-12628 Filed 5-19-03; 8:45 am]

BILLING CODE 6560-50-S